DEPARTMENT OF ENERGY

Office of International Regimes and Agreements; Proposed Subsequent Arrangement

AGENCY: Department of Energy.

ACTION: Notice of proposed subsequent arrangement.

SUMMARY: This notice is being issued under the authority of Section 131 of the Atomic Energy Act of 1954, as amended (42 U.S.C. 2160). The Department is providing notice of a proposed “subsequent arrangement” under the Agreement for Cooperation in the Peaceful Uses of Nuclear Energy between the United States and the European Atomic Energy Community (Euratom) and the Agreement for Cooperation in the Peaceful Uses of Nuclear Energy between the United States and Canada.

This subsequent arrangement concerns the retransfer of 147,929 kg of Natural UF6 (67.6% U), containing 100,000 kg of Uranium. This material will be retransferred from Cameco Corporation, Canada, to Urenco Deutschland GmbH, Germany for final use in a civilian nuclear power reactor program by Exelon Generation, Illinois, USA. The material originally was exported to Canada pursuant to NRC Export License Number XSOU-8798. Urenco GmbH is authorized to receive nuclear material pursuant to the U.S.-Euratom Agreement for Cooperation.

In accordance with Section 131 of the Atomic Energy Act of 1954, as amended, we have determined that this subsequent arrangement will not be inimical to the common defense and security.

This subsequent arrangement will take effect no sooner than fifteen days after the date of publication of this notice.

Dated: June 28, 2007.
For the Department of Energy.
Anatoli Welihozkiy,
Acting Director, Office of International Regimes and Agreements.

[FR Doc. E7-13111 Filed 7-5-07; 8:45 am]

BILLING CODE 6450-01-P